DEPARTMENT OF HOMELAND SECURITY

Federal Emergency Management Agency

[Docket ID FEMA-2017-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of August 15, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: April 25, 2017.
Roy E. Wright,
Deputy Associate Administrator for Insurance and Mitigation, Department of Homeland Security, Federal Emergency Management Agency.

I. Non-Watershed-Based Studies

Community | Community map repository address
Marin County, California and Incorporated Areas
Docket No.: FEMA-B-1553
Unincorporated Areas of Marin County | Marin County Department of Public Works, 3501 Civic Center Drive, Room 304, San Rafael, CA 94903.
Tippecanoe County, Indiana and Incorporated Areas
Docket No.: FEMA-B-1621
City of Lafayette | City Hall, 20 North 6th Street, Lafayette, IN 47901.
Town of Shadeland | Shadeland Town Hall, 3125 South 175 West, Lafayette, IN 47909.
Unincorporated Areas of Tippecanoe County | Tippecanoe County Office, 20 North 3rd Street, Lafayette, IN 47901.
Crow Wing County, Minnesota and Incorporated Areas
Docket No.: FEMA-B-1532
City of Baxter | City Hall, 13190 Memorywood Drive, Baxter, MN 56425.
City of Brainerd | City Hall, 501 Laurel Street, Brainerd, MN 56401.
City of Breezy Point | City Hall, 8319 County Road 11, Breezy Point, MN 56472.
City of Crosby | City Hall, 2 2nd Street Southwest, Crosby, MN 56441.
City of Crosslake | City Hall, 37028 County Road 66, Crosslake, MN 56442.
City of Cuyuna | Cuyuna City Hall, 24945 Minnesota Avenue, Deerwood, MN 56444.
City of Deerwood | City Hall, 23770 Forest Road, Deerwood, MN 56444.
City of Emily | City Hall, 39811 State Highway 6, Emily, MN 56447.
City of Fifty Lakes | City Hall, 40447 Town Hall Road, Fifty Lakes, MN 56448.
City of Fort Ripley | 930 Oak Drive North, Fort Ripley, MN 56449.
City of Garrison | City Hall, 27069 Central Street, Garrison, MN 56450.
City of Ironton | City Hall, 309 3rd Street, Ironton, MN 56455.
City of Jenkins | City Hall, 33861 Cottage Avenue, Jenkins, MN 56474.
City of Manhattan Beach | City Hall, 39148 County Road 66, Manhattan Beach, MN 56442.
City of Nisswa | City Hall, 5442 City Hall Street, Nisswa, MN 56468.
City of Pequot Lakes | City Hall, 4638 County Road 11, Pequot Lakes, MN 56472.
City of Riverton | City Hall, 16663 Main Street, Riverton, MN 56455.
City of Trommald | City Hall, 18105 Whitetail Street, Trommald, MN 56441.
Unincorporated Areas of Crow Wing County | Crow Wing County Land Services Office, Environmental Services, 322 Laurel Street, Suite 14, Brainerd, MN 56401.
Muskingum County, Ohio and Incorporated Areas
Docket No.: FEMA-B-1627
Unincorporated Areas of Muskingum County | Muskingum County Mapping Department, 401 Main Street, Zanesville, OH 43701.
Village of Roseville | Municipal Building, 107 North Main Street, Roseville, OH 43777.
Perry County, Ohio and Incorporated Areas
Docket No.: FEMA-B-1627
Unincorporated Areas of Perry County | Perry County Offices—Soil and Water Department, 109-A East Gay Street, Somerset, OH 43783.

[FR Doc. 2017-10168 Filed 5-18-17; 8:45 am]

BILLING CODE 9110-12-P